NUCLEAR REGULATORY COMMISSION

[Docket No. 50-285; NRC-2013-0130]

Omaha Public Power District, Fort Calhoun Station, Unit 1; Exemption

1.0 Background

Omaha Public Power District (OPPD, the licensee) is the holder of Facility Operating License, which authorizes operation of Fort Calhoun Station (FCS), Unit 1. The license provides, among other things, that the facility is subject to all rules, regulations, and orders of the U.S. Nuclear Regulatory Commission (NRC) now or hereafter in effect.

The facility consists of one pressurized-water reactor located in Washington County, Nebraska.

2.0 Request/Action

Section 26.205(d)(3) of Title 10 of the Code of Federal Regulations (10 CFR), requires licensees to ensure that individuals who perform duties identified in 10 CFR 26.4(a)(1) through (a)(5) to comply with the requirements for maximum average work hours in 10 CFR 26.205(d)(7). However, 10 CFR 26.205(d)(4) provides that during the first 60 days of a unit outage, licensees need not meet the requirements of 10 CFR 26.205(d)(7) for individuals specified in 10 CFR 26.4(a)(1) through (a)(4), while those individuals are working on outage activities. The less restrictive requirements of 10 CFR 26.205(d)(4) and (d)(5) are permitted to be applied during the first 60 days of a unit outage following a period of normal plant operation in which the workload and overtime levels are controlled by 10 CFR 26.205(d)(3). The regulations in 10 CFR 26.205(d)(4) also require licensees to ensure that the individuals specified in 10 CFR 26.4(a)(1) through (a)(3) have at least 3 days off in each successive (i.e., non-rolling) 15-day period and that the individuals specified in 10 CFR 26.4(a)(4) have at least 1 day off in any 7-day period.

Regulatory Guide (RG) 5.73, “Fatigue Management for Nuclear Power Plant Personnel,” March 2009 (Agencywide Documents Access and Management System (ADAMS) Accession No. ML083450028), endorses Nuclear Energy Institute (NEI) 06-11, Revision 1, “Managing Personnel Fatigue at Nuclear Power Reactor Sites,” October 2008 (ADAMS Accession No. ML083110161), with clarifications, additions and exceptions. Position 10 of RG 5.73 “C. Regulatory Position” provides an acceptable alternate method to the method stated in the NEI 06-11, Section 8.3, for transitioning individuals who are working an outage at one site onto an outage at another site.

By letter dated October 10, 2012 (ADAMS Accession No. ML12284A344), the licensee requested a one-time exemption in accordance with 10 CFR 26.9 from the specific requirements of 10 CFR 26.205(d)(7). Currently, 10 CFR 26.205(d)(4) and (d)(5) permit the use of less restrictive working hour limitations during the first 60 days of a unit outage, in lieu of the requirements of 10 CFR 26.205(d)(7). The proposed exemption would allow the use of the less restrictive working hour limitations described in 10 CFR 26.205(d)(4) and (d)(5) to support activities required for plant startup from the current extended outage, for a period not to exceed 60 days. The exemption would apply to the operations, chemistry, radiation protection, security, fire brigade, and maintenance personnel as defined in 10 CFR 26.4(a)(1) through (a)(5). The licensee is requesting this one-time exemption to facilitate the licensee in its efforts to complete work activities supporting the restart of FCS from the current extended refueling outage, which began in April 2011.

3.0 Discussion

Pursuant to 10 CFR 26.9, the Commission may, upon application by any interested person or upon its own initiative, grant exemptions from the requirements of 10 CFR part 26 when the exemptions are authorized by law, and will not endanger life or property or the common defense and security, and are otherwise in the public interest.

FCS, Unit 1 commenced a refueling outage on April 9, 2011, and declared an Unusual Event on June 6, 2011. The first 60 days of the outage during which the less restrictive work-hour limitations of 10 CFR 26.205(d)(4) and (d)(5) were in effect, ended in June 2011. However, due to the declaration of the flooding emergency, work-hour limitations were suspended until the Unusual Event was exited on August 29, 2011. The proposed exemption would allow the use of the less restrictive working-hour limitations described in 10 CFR 26.205(d)(4) and (d)(5) to support activities required for plant startup from the current extended outage, for a period not to exceed 60 days. The proposed exemption would apply to the personnel performing the duties defined in 10 CFR 26.4(a)(1) through (a)(5).

In August 2012, FCS transitioned from compliance with 10 CFR 26.205(d)(3) (minimum days off) to compliance with the maximum average work hour requirements of 10 CFR 26.205(d)(7). By letter dated April 11, 2013 (ADAMS Accession No. ML13102A047), the licensee provided Standing Order (SO) SO-G-52, which set forth requirements and expectations for controlling the work hours of FCS plant staff in accordance with 10 CFR Part 26, Subpart I, “Managing Fatigue.” The requirements of this standing order are intended to provide reasonable assurance that worker fatigue will be avoided, that individuals will be able to safely perform their duties, and that personnel are not assigned to duties while in a fatigued condition that could significantly reduce their mental alertness or their decision-making ability. Work group timekeepers for on-line and plant outage periods are to maintain schedules and time reports. Duration of scheduled work and break periods, start times, rotating schedules, training, and vacation are considered when establishing work schedules.

Notwithstanding the exemption for this specific requirement, the licensee will continue to be in compliance with all other requirements as described in 10 CFR part 26.

Authorized by Law

This exemption would allow the licensee to use the less restrictive working-hour limitations provided in 10 CFR 26.205(d)(4) and (d)(5) for completion of the outage activities, for a period of 60 days, during the current extended outage. The approval of this exemption, as noted above, would allow the licensee the use of the less restrictive working-hour limitations described in 10 CFR 26.205(d)(4) and (d)(5) for an additional period not to exceed 60 days or until the reactor unit is connected to the electrical grid whichever occurs first, to support activities required for plant startup from the current extended outage.

As stated above, 10 CFR 26.9 allows the NRC to grant exemptions from the requirements of 10 CFR Part 26. The NRC staff has determined that granting of the licensee's proposed exemption would not result in a violation of the Atomic Energy Act of 1954, as amended, or the Commission's regulations. Therefore, the exemption is authorized by law.

Will Not Endanger Life or Property

The underlying purpose of 10 CFR 26.205(d)(4) is to provide licensees flexibility in scheduling required days off when accommodating the more intense work schedules associated with a unit outage, while assuring that cumulative fatigue does not compromise the abilities of individuals to safely and competently perform their duties

Since August 2012, FCS personnel have averaged considerably less than 54 hours per week. This provides assurance that covered workers are not already fatigued from working an outage schedule. This exemption would allow the licensee to implement the less restrictive work-hour requirements of 10 CFR 26.205(d)(4) to allow flexibility in scheduling required days off while accommodating the more intensive work schedules that accompany completion of FCS extended outage. Therefore, cumulative fatigue does not compromise the abilities of affected individuals to safely and competently perform their duties.

By letter dated March 16, 2013 (ADAMS Accession No. ML13101A004), the licensee stated that no waivers have been issued under 10 CFR 26.207 by FCS operations, maintenance, chemistry, security, or radiation protection departments since the end of January 2012. The licensee specifically stated that since August 2012, FCS personnel have averaged considerably less than 54 hours per week.

Furthermore, by letter dated May 24, 2013 (ADAMS Accession No. ML13148A057), the licensee committed that “OPPD will ensure that no individual covered by 10 CFR 26.4(a)(1) through (a)(5) works more than 50 hours per week averaged over the 2-week period prior to the effective date of the exemption.”

No new accident precursors are created by invoking the less restrictive work-hour limitations on a date commensurate with the start of those activities supporting the completion of the extended outage at FCS, provided that the licensee has effectively managed fatigue for the affected individuals prior to this date. Thus, no new accident precursors are created by invoking the less restrictive work-hour limitations on a date commensurate with the start of activities supporting the restart of FCS. The licensee will effectively manage fatigue for the covered individuals prior to this date. Thus, the probability of postulated accidents is not increased. Also, based on the above, the consequences of postulated accidents are not increased. Therefore, granting this exemption will not endanger life or property.

Consistent With Common Defense and Security

The proposed exemption would allow for the use of the less restrictive work-hour requirements of 10 CFR 26.205(d)(4) in lieu of 10 CFR 26.205(d)(7). This exemption would affect operations, radiation protection, chemistry, fire brigade, security, and maintenance personnel supporting the completion of the outage activities for FCS, which has been in an extended outage since April 9, 2011.

The licensee will maintain the qualified personnel in the operations, radiation protection, chemistry, fire brigade, security, and maintenance departments on a schedule that complies with 10 CFR 26.205(d)(7) requirements. The exemption would continue to serve the underlying purpose of 10 CFR Part 26, Subpart I, in that assurance would be provided such that cumulative fatigue of individuals to safely and competently perform their duties will not be compromised. Therefore, the common defense and security is not impacted by this exemption.

Consistent With the Public Interest

The proposed exemption would allow the licensee to implement the less restrictive work-hour requirements of 10 CFR 26.205(d)(4) in lieu of 10 CFR 26.205(d)(7) to allow flexibility in scheduling required days off while accommodating the more intensive work schedules that accompany a unit outage. By letter dated March 16, 2013, the licensee explained the events supporting the less restrictive limitations requiring flexibility in scheduling. During the completion of the extended outage, the workload for the affected personnel will undergo a temporary but significant increase due to the various activities surrounding the significant operational events involving a fire in safety related electrical switchgear, flooding, and transitioning to Inspection Manual Chapter (IMC) 0350, “Oversight of Reactor Facilities in a Shutdown Condition due to Significant Performance and/or Operational Concerns,” from being in an extended shutdown with significant performance problems. Because of these events, there has been an increase in workload prior to restart. OPPD also noted that a number of new issues have been discovered that must be tested and restored. During the extended shutdown, extensive work has been initiated to address deficiencies noted in containment building electrical penetrations, containment structural supports, and the impact of flooding hazards related to systems, structures, and components. These activities are in addition to the normal FCS startup activities involving operation and surveillance testing of primary systems and components. Ensuring a sufficient number of qualified personnel are available to support these activities is in the interest of overall public health and safety. Therefore, this exemption is consistent with the public interest.

4.0 Environmental Consideration

The exemption would authorize a one-time exemption from the requirements of 10 CFR 26.205(d)(7) to allow the use of the less restrictive hour limitations described in 10 CFR 26.205(d)(4) and (d)(5). Using the standard set forth in 10 CFR 50.92 for amendments to operating licenses, the NRC staff determined that the subject exemption sought involves employment suitability requirements. The NRC has determined that this exemption involves no significant hazards considerations:

(1) The proposed exemption is administrative in nature and is limited to changing the timeframe when less restrictive hours can be worked. This does not result in any changes to the design basis requirements for the structures, systems, and components (SSCs) at FCS that function to limit the release of non-radiological effluents during and following postulated accidents. Therefore, issuance of this exemption does not increase the probability or consequences of an accident previously evaluated.

(2) The proposed exemption is administrative in nature and is limited to changing the timeframe when less restrictive hours can be worked. The proposed exemption does not make any changes to the facility or operating procedures and would not create any new accident initiators. The proposed exemption does not alter the design, function or operation of any plant equipment. Therefore, this exemption does not create the possibility of a new or different kind of accident from any accident previously evaluated.

(3) The proposed exemption is administrative in nature and is limited to changing the timeframe when less restrictive hours can be worked. The proposed exemption does not alter the design, function or operation of any plant equipment. Therefore, this exemption does not involve a significant reduction in the margin of safety.

Based on the above, the NRC concludes that the proposed exemption does not involve a significant hazards consideration under the standards set forth in 10 CFR 50.92, and accordingly, a finding of “no significant hazards consideration” is justified.

The NRC staff has also determined that the exemption involves no significant increase in the amounts, and no significant change in the types, of any effluents that may be released offsite; that there is no significant increase in individual or cumulative occupational radiation exposure; and there is no significant increase in the potential for or consequences from a radiological accident. Furthermore, the requirement from which the licensee will be exempted involves scheduling requirements. Accordingly, the exemption meets the eligibility criteria for categorical exclusion set forth in 10 CFR 51.22(c)(25). Pursuant to 10 CFR 51.22(b), no environmental impact statement or environmental assessment is required to be prepared in connection with the issuance of the exemption.

5.0 Conclusion

Accordingly, the Commission has determined that pursuant to 10 CFR 26.9, “Specific exemptions,” an exemption from 10 CFR 26.205(d)(7) is authorized by law and will not endanger life or property or the common defense and security, and is otherwise in the public interest.

Therefore, the Commission hereby grants OPPD a one-time, 60-day exemption from 10 CFR 26.205(d)(7) to allow the use of the work hour limitations described in 10 CFR 26.205(d)(4) and (d)(5).

This exemption is effective upon issuance. The licensee may implement the work hour provisions of 10 CFR 26.205(d)(4) for 60 days or until the completion of the current extended outage, whichever is shorter.

Dated at Rockville, Maryland, this 11th day of June 2013.
For the Nuclear Regulatory Commission,
Michele G. Evans,
Director, Division of Operating Reactor Licensing, Office of Nuclear Reactor Regulation.

[FR Doc. 2013-14910 Filed 6-20-13; 8:45 am]

BILLING CODE 7590-01-P